FEDERAL MARITIME COMMISSION

[Docket No. 07-09]

Jamteck International Shipping Inc., and Angella Barnett-Walker—Possible Violations of the Commission's Regulations at 46 CFR Part 515; Order of Investigation and Hearing

Jamteck International Shipping Inc. (“Jamteck”) was incorporated in the State of New York on June 24, 2005, and is presently located at 4633 Richardson Avenue in Bronx, New York 10470. Since February 26, 2007, Jamteck has operated as an ocean transportation intermediary (“OTI”) pursuant to FMC License No. 020155N. According to a review of records maintained by the Commission's Bureau of Certification and Licensing (“BCL”), the principals of the firm are identified as Angella Barnett-Walker, its President and Qualifying Individual, and Donald Barnett, its Vice President.

Jamteck filed its Form FMC-18 with the Commission on March 27, 2006. In response to questions on the application regarding her employment history as Qualifying Individual, Ms. Barnett-Walker claimed to have worked for two employers over a period of four (4) years from 2000 through 2004.

It has come to the attention of the Commission that Ms. Barnett-Walker appears to have misrepresented her OTI experience on Jamteck's license application. Information provided by representatives of both employers indicates that Ms. Barnett-Walker does not have three (3) years of OTI experience as required by the Commission's regulations at 46 CFR 515.11(a). In addition to a lack of the requisite OTI experience of three (3) years, it appears that, in applying for its OTI license, Jamteck and Ms. Barnett-Walker made materially false or misleading statements to the Commission with regard to Ms. Barnett-Walker's previous OTI experience and subsequently failed to correct such omissions.

Section 19 of the Shipping Act of 1984 (“1984 Act”), 46 U.S.C. 40901(a), provides that any person in the United States acting as an OTI ¹ must hold a license issued by the Commission. The Commission's regulations at 46 CFR 515.11(a) state that, to be eligible for a license, an applicant must demonstrate that “[i]t possesses the necessary experience, that is, its qualifying individual has a minimum of three (3) years experience in ocean transportation intermediary activities in the United States, and the necessary character to render ocean transportation intermediary services.”

¹ According to section 3(17) of the 1984 Act, 46 U.S.C. 40102, an ocean transportation intermediary is defined as either a freight forwarder or a non-vessel-operating common carrier.

Section 19(c) of the 1984 Act, 46 U.S.C. 40903, further provides that the Commission:

shall, after notice and hearing, suspend or revoke a license if it finds that the ocean transportation intermediary is not qualified to render intermediary services or that it willfully failed to comply with a provision of this Act or with a lawful order, rule, or regulation of the Commission.

The Commission's implementing regulations at 46 CFR Part 515 provide that a license may be revoked or suspended for any of the following reasons:

(1) Violation of any provision of the Act, or any other statute or Commission order or regulation related to carrying on the business of an ocean transportation intermediary;

(2) Failure to respond to any lawful order or inquiry by the Commission;

(3) Making a materially false or misleading statement to the Commission in connection with an application for a license or an amendment to an existing licensed;

(4) Where the Commission determines that the licensee is not qualified to render intermediary services; or

(5) Failure to honor the licensee's financial obligations to the Commission.

46 CFR 515.16(a). These latter regulatory provisions largely iterate the obligation imposed by the statute that each applicant for a license must initially be qualified by “experience and character” in order to act as an ocean transportation intermediary, and must continuously maintain such qualifications of integrity, good character, technical OTI expertise and financial responsibility thereafter as a condition of license retention.

Now therefore, it is ordered, that pursuant to sections 11 and 19 of the 1984 Act, 46 U.S.C. 41301(a)-41307 and 40901(a), an investigation is instituted to determine:

(1) Whether Jamteck International Shipping Inc. and Angella Barnett-Walker violated the Commission's regulations at 46 CFR Part 515 by submitting materially false or misleading information to the Commission on the OTI license application of Jamteck International Shipping Inc., and whether such licensee is qualified to render licensed OTI services;

(2) whether the Ocean Transportation Intermediary license, No. 020155N, of Jamteck International Shipping Inc. should be suspended or revoked pursuant to section 19 of the 1984 Act; and

(3) whether, in the event violations are found, appropriate cease and desist orders should be issued against Jamteck International Shipping Inc. and Angella Barnett-Walker.

It is further ordered, that a public hearing be held in this proceeding and that this matter be assigned for hearing before an Administrative Law Judge of the Commission's Office of Administrative Law Judges at a date and place to be hereafter determined by the Administrative Law Judge in compliance with Rule 61 of the Commission's Rules of Practice and Procedure, 46 CFR 502.61. The hearing shall include oral testimony and cross-examination in the discretion of the presiding Administrative Law Judge only after consideration has been given by the parties and the presiding Administrative Law Judge to the use of alternative forms of dispute resolution, and upon a proper showing that there are genuine issues of material fact that cannot be resolved on the basis of sworn statements, affidavits, depositions, or other documents or that the nature of the matters in issue is such that an oral hearing and cross-examination are necessary for the development of an adequate record;

It is further ordered, that Jamteck International Shipping Inc. and Angella Barnett-Walker are designated as Respondents in this proceeding;

It is further ordered, that the Commission's Bureau of Enforcement is designated a party to this proceeding;

It is further ordered, that notice of this Order be published in the Federal Register, and a copy be served on the parties of record;

It is further ordered, that other persons having an interest in participating in this proceeding may file petitions for leave to intervene in accordance with Rule 72 of the Commission's Rules of Practice and Procedure, 46 CFR 502.72;

It is further ordered, that all further notices, orders, and/or decisions issued by or on behalf of the Commission in this proceeding, including notice of the time and place of hearing or prehearing conference, shall be served on parties of record;

It is further ordered, that all documents submitted by any party of record in this proceeding shall be directed to the Secretary, Federal Maritime Commission, Washington, DC 20573, in accordance with Rule 118 of the Commission's Rules of Practice and Procedure, 46 CFR 502.118, and shall be served on parties of record; and

It is further ordered, that in accordance with Rule 61 of the Commission's Rules of Practice and Procedure, the initial decision of the Administrative Law Judge shall be issued by August 25, 2008, and the final decision of the Commission shall be issued by December 22, 2008.

By the Commission.
Karen V. Gregory,
Assistant Secretary.

[FR Doc. E7-17147 Filed 8-29-07; 8:45 am]

BILLING CODE 6730-01-P